DEPARTMENT OF ENERGY

Federal Energy Regulatory Commission

[Docket No. IC21-4-000]

Commission Information Collection Activities (FERC-549b); Comment Request; Extension

AGENCY: Federal Energy Regulatory Commission.

ACTION: Notice of information collection and request for comments.

SUMMARY: In compliance with the requirements of the Paperwork Reduction Act), the Federal Energy Regulatory Commission (Commission or FERC) is soliciting public comment on the currently approved information collection, FERC-549B (Gas Pipeline Rates: Annual Capacity Reports and Index of Customers).

DATES: Comments on the collection of information are due December 28, 2020.

ADDRESSES: You may submit comments (identified by Docket IC21-4-000) by any of the following methods:

• eFiling at Commission's Website: http://www.ferc.gov/docs-filing/efiling.asp.

• U.S. Postal Service Mail: Persons unable to file electronically may mail similar pleadings to the Federal Energy Regulatory Commission, 888 First Street NE, Washington, DC 20426.

• Effective 7/1/2020, delivery of filings other than by eFiling or the U.S. Postal Service should be delivered to Health and Human Services, 12225 Wilkins Avenue, Rockville, Maryland 20852.

Instructions: All comments must be formatted and filed in accordance with submission guidelines at: http://www.ferc.gov. For user assistance, contact FERC Online Support by email at ferconlinesupport@ferc.gov, or by phone at: (866) 208-3676 (toll-free).

Docket: Users interested in receiving automatic notification of activity in this docket or in viewing/downloading comments and issuances in this docket may do so at http://www.ferc.gov/docs-filing/docs-filing.asp.

FOR FURTHER INFORMATION CONTACT: Ellen Brown may be reached by email at DataClearance@FERC.gov and telephone at (202) 502-8663.

SUPPLEMENTARY INFORMATION:

Title: FERC-549B (Gas Pipeline Rates: Annual Capacity Reports and Index of Customers).

OMB Control No.: 1902-0169.

Type of Request: Three-year extension of the FERC-549B information collection requirements with changes to the current reporting requirements.

Abstract: As described below, FERC-549B is comprised of information collection activities at 18 CFR 284.13(b), 284.13(c), 284.13(d)(1), and 284.13(d)(2). The purpose of these information collection activities is to provide reliable information about capacity availability and price that shippers need to make informed decisions in a competitive market, and to enable shippers and the Commission to monitor marketplace behavior to detect, and remedy anti-competitive behavior.

Reports on Firm and Interruptible Services and on Capacity and Flow Information Under 18 CFR 284.13(b) and 284.13(d)(1)

This information collection activity enables shippers to release transportation and storage capacity to other shippers wanting to obtain capacity. The information results in reliable capacity information availability and price data that shippers need to make informed decisions in a competitive market, and enables shippers and the Commission to monitor the market for potential abuses.

Index of Customers Under 18 CFR 284.13(c)

The regulation at 18 CFR 284.13(c) requires interstate pipelines to file an index of all its firm transportation and storage customers under contract. This index is due on the first business day of each calendar quarter. In addition, the index must be posted on the pipeline's internet website in a downloadable format complying with specifications established by the Commission. The information posted on the pipeline's internet website must be made available until the next quarterly index is posted. The requirements for the electronic index can be obtained from the Federal Energy Regulatory Commission, Division of Information Services, Public Reference and Files Maintenance Branch, Washington, DC 20426.

Peak-Day Annual Capacity Report Under 284.13(d)(2)

The regulation at 18 CFR 284.13(d)(2) requires an annual peak-day capacity report of all interstate pipelines, including natural gas storage-only companies. This report is generally a short report showing the peak day design capacity or the actual peak day capacity achieved, with a short explanation, if needed. The regulation provides that an interstate pipeline must make an annual filing by March 1 of each year showing the estimated peak day capacity of the pipeline's system, and the estimated storage capacity and maximum daily delivery capability of storage facilities under reasonably representative operating assumptions and the respective assignments of that capacity to the various firm services provided by the pipeline.

Types of Respondents: Respondents for this data collection are interstate pipelines and storage facilities subject to FERC regulation under the Natural Gas Act.

Estimate of Annual Burden: The Commission estimates the annual public reporting burden ¹ for the information collection as shown in the following table:

¹ The Commission defines burden as the total time, effort, or financial resources expended by persons to generate, maintain, retain, or disclose or provide information to or for a Federal agency. For further explanation of what is included in the information collection burden, reference 5 CFR 1320.3.

FERC-549B (Gas Pipeline Rates: Capacity Reports and Index of Customers)
| Average annual number of respondents | Average annual number of responses per respondent | Average annual total number of responses | Average burden & cost per response ² | Total annual burden hours & total annual cost | Cost per respondent ($)
| (1) | (2) | (1) * (2) = (3) | (4) | (3) * (4) = (5) | (5) ÷ (1)
Capacity Reports under 284.13(b) & 284.13(d)(1) | 168 | 6 | 1,008 | 145 hrs.; $146,160 | 146,160 hrs.; $12,131,280 | $72,210
Index of Customers under 18 CFR 284.13(c) | 168 | 4 | 672 | 3 hrs.; $249 | 2,016 hrs.; $167,328 | 996
Peak Day Annual Capacity Report under 18 CFR 284.13(d)(2) | 168 | 1 | 168 | 10 hrs.; $830 | 1,680 hrs.; $139,440 | 830
Totals |  |  | 1,848 |  | 149,856 hrs.; $12,438,048 | 74,036

Comments: Comments are invited on: (1) Whether the collection of information is necessary for the proper performance of the functions of the Commission, including whether the information will have practical utility; (2) the accuracy of the agency's estimate of the burden and cost of the collection of information, including the validity of the methodology and assumptions used; (3) ways to enhance the quality, utility and clarity of the information collection; and (4) ways to minimize the burden of the collection of information on those who are to respond, including the use of automated collection techniques or other forms of information technology.

² The current average cost for one FERC full-time equivalent ($83.00 per hour for wages plus benefits) is used as a proxy for industry's hourly cost.

Dated: October 20, 2020.
Kimberly D. Bose,
Secretary.

[FR Doc. 2020-23655 Filed 10-23-20; 8:45 am]

BILLING CODE 6717-01-P